DEPARTMENT OF THE INTERIOR

Bureau of Land Management

[ES-930-07-1320-241A; KYES 50213]

Kentucky: Notice of Federal Competitive Coal Lease Sale, Kentucky

AGENCY: Bureau of Land Management, Interior.

ACTION: Notice of Competitive Coal Lease Sale (KYES-50213).

SUMMARY: Notice is hereby given that the United States Department of the Interior, Bureau of Land Management-Eastern States (BLM-ES), will offer certain coal resources described below as the Blue Hole Federal Mineral Tract (KYES-50213) in Clay County, Kentucky, for competitive sale by sealed bid, in accordance with the provisions for competitive lease sales in 43 CFR part 3422, and the Mineral Leasing Act of 1920, as amended and supplemented (30 U.S.C. 181 et seq.), and the Mineral Leasing Act for Acquired Lands of 1947.

DATES: The lease sale will be held at 10 a.m. on Thursday, May 11, 2006. The bid must be sent by certified mail, return receipt requested, or be hand delivered to the address indicated below, and must be received on or before 4:30 p.m., May 10, 2006. The Cashier will issue a receipt for each hand delivered sealed bid. Any bid received after the time specified will not be considered and will be returned. The outside of the sealed envelope containing the bid must clearly state that the envelope contains a bid for Coal Lease Sale KYES-50213, and is not to be opened before the date and hour of the sale.

ADDRESSES: The Lease sale will be held at BLM-ES, 7450 Boston Boulevard, Springfield, Virginia 22153. Sealed bids must be submitted to the Cashier, BLM-ES, at that address.

FOR FURTHER INFORMATION CONTACT: Contact Timothy Best, BLM-ES, 7450 Boston Boulevard, Springfield, Virginia 22153, telephone (703) 440-1527.

SUPPLEMENTARY INFORMATION: This Coal Lease Sale is being held in response to a lease by application (LBA) filed by Chas Coal LLC. The coal tracts to be offered are portions of 545b and 3094 Parcel 1 and Parcel 2 in the National Forest System, located on the upper end of the Left Fork of Blue Hole Creek in southern Clay County, Kentucky, on the Daniel Boone National Forest. The tracts encompass 314.53 acres and are delineated on a map in the Detailed Statement information. Both the surface and mineral estates are owned by the Federal government. The surface estate is managed by the U.S. Forest Service. The Blue Hole Federal Mineral Tract contains approximately 792,335 tons of recoverable coal which will be mined by underground methods in the Hazard #8 seam. The rank of the coal is High Volatile A Bituminous. The proximate analysis of the coal seam is as follows:

Hazard #8 seam estimated recoverable Federal coal | 792,335 tons.
Proximate Analysis (%):
Moisture | 2.1200%
Ash | 5.0300%
Volatile | 38.5800%
Fixed Carbon | 54.2600%
Sulfur | 0.8700%
Btu/lb | 14,033

The Blue Hole Federal Mineral Tract will be leased to the qualified bidder of the highest cash amount, provided that the high bid equals or exceeds the Fair Market Value (FMV) for the tract as determined by the authorized officer after the Sale. The Department of the Interior has established a minimum bid of $100 per acre or fraction thereof for the tracts. The minimum bid is not intended to represent the FMV. The lease issued as a result of this offering will provide for payment of an annual rental of $3 per acre and a royalty of 8 percent of the value of the coal produced by underground mining methods. The value of the coal will be determined in accordance with 30 CFR 206.250.

The required Detailed Statement, including bidding instructions for the offered tracts and the terms and conditions of the proposed coal lease, is available from the BLM-ES at the address above. Case file documents for KYES 50213 are available for inspection during normal business hours only at the BLM-ES.

Dated: February 21, 2006.
Terry B. Lewis,
Acting State Director, Eastern States.

[FR Doc. E6-4415 Filed 3-27-06; 8:45 am]

BILLING CODE 4310-GJ-P